DEPARTMENT OF TRANSPORTATION

Federal Aviation Administration

Public Notice for Waiver of Aeronautical Land-Use Assurance; Southern Illinois Airport, Carbondale, IL

AGENCY: Federal Aviation Administration, DOT.

ACTION: Notice of intent of waiver with respect to land.

SUMMARY: The Federal Aviation Administration (FAA) is considering a proposal to change a portion of airport land from aeronautical use to non-aeronautical use at the Southern Illinois Airport in Carbondale, Illinois. The proposal consists of a total of 4.34 acres, Parcel 1F (3.77 acres) and Parcel 2F (0.57 acres), located on the southwest part of the airport. This notice announces that the FAA is considering the release of the subject airport property at Southern Illinois Airport, from all federal land covenants. Approval does not constitute a commitment by the FAA to financially assist in disposal of the subject airport property nor a determination that all measures covered by the program are eligible for grant-in-aid funding from the FAA.

In accordance with section 47107(h) of Title 49, United States Code, this notice is required to be published in the Federal Register 30 days before modifying the land-use assurance that requires the property to be used for an aeronautical purpose.

DATES: Comments must be received on or before September 10, 2012.

FOR FURTHER INFORMATION CONTACT: Gary D. Wilson, Program Manager, 2300 East Devon Avenue, Des Plaines, IL 60018. Telephone Number 847-294-7631/FAX Number 847-294-7046. Documents reflecting this FAA action may be reviewed at this same location by appointment or at the Southern Illinois Airport, P.O. Box 1086, Carbondale, Illinois 62903.

SUPPLEMENTARY INFORMATION: Following is a legal description of the properties being released located in Jackson County, Illinois, and described as follows:

Parcel 1F

Part of the Southwest Quarter of Section 31, Township 8 South, Range 1 and part of the Northwest Quarter of the Northeast Quarter of Section 6, Township 9 South, Range 1 West of the Third Principal Meridian in Jackson County, Illinois and being more particularly described as follows:

Commencing at the Northwest corner of the Northwest Quarter of the Northeast Quarter of aforesaid Section 6; thence along the North line of said Northwest Quarter of the Northeast Quarter of Aforesaid Section 6, South 89 Degrees 20 Minutes 38 Seconds East, 36.34 feet; thence, North 00 Degrees 39 Minutes 22 Seconds East, 51.60 feet to the point of beginning; thence, North 60 Degrees 04 Minutes 54 Seconds East, 870.61 feet to the West Right-Of-Way of Airport Entrance Road 120 feet wide; thence along said West Right-Of-Way of Airport Entrance Road, South 00 Degrees 59 Minutes 50 Seconds West, 804.39 feet; thence along a curve to the right with a radius of 3760.40 feet, having a chord bearing South 02 Degrees 15 Minutes 44 Seconds West for a distance of 166.04 feet, and an arc distance of 166.05 feet; thence departing said Right-of-Way, North 90 Degrees 00 Minutes 00 Seconds West, 136.56 feet; thence along a non tangent curve to the left with a radius of 857.56 feet, having a chord bearing North 14 Degrees 26 Minutes 02 Seconds East for a distance of 156.40 feet, and an arc distance of 156.61 feet; thence, South 89 Degrees 20 Minutes 38 Seconds East, 51.00 feet; thence, North 00 Degrees 39 Minutes 22 Seconds East, 393.64 feet; thence North 89 Degrees 20 Minutes 38 Seconds West, 35.00 feet; thence along a non tangent curve to the left with a radius of 224.00 feet, having a chord bearing North 35 Degrees 30 Minutes 32 Seconds West for a distance of 273.80 feet, and an arc distance of 294.58 feet; thence, South 60 Degrees 55 Minutes 32 Seconds West, 150.00 feet; thence, South 0 Degrees 39 Minutes 22 Seconds West, 554.92 feet; thence, North 90 Degrees 00 Minutes 00 Seconds West, 30 Feet; thence, North 0 Degrees 39 Minutes 22 Seconds East, 407.57 feet; thence, North 89 Degrees 20 Minutes 38 Seconds West, 190.00 feet; thence, South 0 Degrees 39 Minutes 22 Seconds West, 305.00 feet; thence, North 89 Degrees 20 Minutes 38 Seconds West, 10.00 feet; thence, North 0 Degrees 39 Minutes 22 Seconds East, 255.00 feet; thence North 89 Degrees 20 Minutes 38 Seconds West, 135.00 feet; thence, North 0 Degrees 39 Minutes 22 Seconds East, 34.57 feet to the point of beginning. Containing an area of 164,081 square feet or 3.77 acres, more or less.

Part 2F

Part of the Southwest Quarter of Section 31, Township 8 South, Range 1, and part of the Northwest Quarter of the Northeast Quarter of Section 6, Township 9 South, Range 1 West of the Third Principal Meridian in Jackson County, Illinois and being more particularly described as follows: Commencing at the Northwest corner of the Northwest Quarter of the Northeast Quarter of aforesaid Section 6; thence along the North line of said Northwest Quarter of the Northeast Quarter of aforesaid Section 6, South 89 Degrees 20 Minutes 38 Seconds East, 36.34 feet; thence, North 00 Degrees 39 Minutes 22 Seconds East, 17.03 feet to the point of beginning; thence, South 89 Degrees 20 Minutes 38 Seconds East, 20 feet; thence South 0 Degrees 39 Minutes 22 Seconds West, 255.00 feet, thence South 89 Degrees 20 Minutes 38 Seconds East, 125.00 feet; thence South 0 Degrees 39 Minutes 22 Seconds West, 80 feet; thence South 89 Degrees 20 Minutes 38 Seconds East, 190 feet; thence South 0 Degrees 39 Minutes 22 Seconds West, 22.57 feet; thence North 90 Degrees 00 Minutes 00 Seconds West, 335.02 feet; thence North 0 Degrees 39 Minutes 22 Seconds East, 361.41 feet to the point of beginning; containing an area of 24.904 square feet or 0.57 acres, more or less.

Issued in Des Plaines, Illinois on, July 9, 2012.
Chad Oliver,
Acting Manager, Chicago Airports District Office, FAA, Great Lakes Region.

[FR Doc. 2012-19582 Filed 8-9-12; 8:45 am]

BILLING CODE 4910-13-P